ENVIRONMENTAL PROTECTION AGENCY

[FRL-6895-5]

Agency Information Collection Activities: Submission for OMB Review; Comment Request, New Source Performance Standards (NSPS) for Nitric Acid Plants

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: New Source Performance Standards for Nitric Acid Plants, subpart G, 40 CFR part 60, OMB Control Number 2060-0019, expiration date, November 30, 2000. The ICR describes the nature of the information collection and its expected burden and cost; where appropriate, it includes the actual data collection instrument.

DATES: Comments must be submitted on or before December 4, 2000.

ADDRESSES: Send comments, referencing EPA ICR No. 1056.07 and OMB Control No. 2060-0019, to the following addresses: Sandy Farmer, U.S. Environmental Protection Agency, Collection Strategies Division (Mail Code 2822), 1200 Pennsylvania Avenue, N.W., Washington, DC 20460; and to Office of Information and Regulatory Affairs, Office of Management and Budget (OMB), Attention: Desk Officer for EPA, 725 17th Street, N.W., Washington, DC 20503.

FOR FURTHER INFORMATION CONTACT: For a copy of the ICR contact Sandy Farmer at EPA by phone at (202) 260-2740, by E-Mail at Farmer.Sandy@epamail.epa.gov or download off the Internet at http://www.epa.gov/icr and refer to EPA ICR No. 1056.07. For technical questions about the ICR contact: Sandra Jones at 202/564-7038, Office of Compliance.

SUPPLEMENTARY INFORMATION: Title: NSPS Subpart G, Nitric Acid Plants, OMB Control No. 2060-0019; EPA ICR No. 1056.07, expiring, November 30, 2000. This is a request for an extension of a currently approved collection.

Abstract: This ICR contains monitoring, recordkeeping and reporting requirements that are mandatory for compliance with 40 CFR part 60, NSPS subpart G, Nitric Acid Plants. This information is used by the Agency to identify sources subject to the standards to insure that the best demonstrated technology is being properly applied. The standards require periodic recordkeeping to document process information relating to the source's ability to meet the requirements of the standard and to note the operation conditions under which compliance was achieved.

In the Administrators judgement, VOC emissions from the nitric acid plants cause or contribute to air pollution that may reasonably be anticipated to endanger public health or welfare. Therefore, NSPS were promulgated for this source category.

Owners or operators of the affected facilities described must take the following one-time only reports: Notification of the date of construction or reconstruction; notification of the anticipated and actual dates of startup, notification of any physical or operational change to an existing facility which may increase the regulated pollutant emission rate; notification of the date of the initial performance test; and the results of the initial performance test.

Owners or operators are also required to maintain records of the occurrence and duration of any startup, shutdown, or malfunction in the operation of an affected facility, or any period during which the monitoring system is inoperative. These notifications, reports and records and semi-annual reports in general, of all sources subject to NSPS.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on April 18, 2000; no comments were received.

Burden Statement: The annual public reporting and recordkeeping burden for this collection of information is estimated to average 25 hours per response. Burden means the total time, effort, or financial resources expended by person to generate, maintain, retain, or disclose or provide information to or for a Federal agency. This includes the time needed to review instructions; develop, acquire, install, and utilize technology and systems for the purposes of collecting, validating, and verifying information, processing and maintaining information, and disclosing and providing information, adjust the existing ways to comply with any previously applicable instructions and requirements; train personnel to be able to respond to a collection of information; search data sources, complete and review the collection of information; and transmit or otherwise disclose the information.

Respondents/Affected Entities: Owners/Operators of Nitric Acid Plants.

Estimated Number of Respondents: 35.

Frequency of Response: semi-annual.

Estimated Total Annual Hour Burden: 1,796.

Estimated Total Annualized Capital and O&M Cost Burden: $3,568.

Send comments on the Agency's need for this information, the accuracy of the provided burden estimates, and any suggested methods for minimizing respondent burden, including through the use of automated collection techniques to the following addresses. Please refer to EPA ICR No. 1056.07 and OMB Control No.2060-0019 in any correspondence.

Dated: October 25, 2000.
Oscar Morales,
Director, Collection Strategies Division.

[FR Doc. 00-28164 Filed 11-1-00; 8:45 am]

BILLING CODE 6560-50-U